DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 16, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 16, 2017.
Roy E. Wright,
Deputy Associate Administrator for Insurance and Mitigation, Department of Homeland Security, Federal Emergency Management Agency.

I. Watershed-based studies:

Community | Community map repository address
Quinnipiac Watershed
Hartford County, Connecticut (All Jurisdictions)
Docket No.: FEMA-B-1550
City of Bristol | Engineering Division, 111 North Main Street, Bristol, CT 06010.
City of New Britain | Public Works Department, 27 West Main Street, Room 501, New Britain, CT 06051.
Town of Plainville | Office of Technical Services, 1 Central Square, Plainville, CT 06062.
Town of Southington | Planning Department, 196 North Main Street, Southington, CT 06489.
New Haven County, Connecticut (All Jurisdictions)
Docket No.: FEMA-B-1550
City of Ansonia | Town and City Clerk's Office, 253 Main Street, Ansonia, CT 06401.
City of Derby | Building Department, 1 Elizabeth Street, Derby, CT 06418.
City of Meriden | City Clerk's Office, 142 East Main Street, Meriden, CT 06450.
City of Milford | Parsons Government Center, 70 West River Street, Milford, CT 06460.
Town of Branford | Engineering Department, 1019 Main Street, Branford, CT 06405.
Town of Cheshire | Town Clerk's Office, 84 South Main Street, Cheshire, CT 06410.
Town of East Haven | Engineering Department, 461 North High Street, East Haven, CT 06512.
Town of Hamden | Planning and Zoning Department, 2750 Dixwell Avenue, Hamden, CT 06518.
Town of North Branford | Engineering Department, 909 Foxon Road, North Branford, CT 06471.
Town of North Haven | Town Clerk's Office, 18 Church Street, North Haven, CT 06473.
Town of Orange | Public Works Department, 617 Orange Center Road, Orange, CT 06477.
Town of Wallingford | Planning Department, 45 South Main Street, Wallingford, CT 06492.
Town of Woodbridge | Town Clerk's Office, 11 Meetinghouse Lane, Woodbridge, CT 06525.
Lower Big Blue Watershed
Marshall County, Kansas and Incorporated Areas
Docket No.: FEMA-B-1532
City of Axtell | City Hall, 306 Maple Street, Axtell, KS 66403.
City of Beattie | City Hall, 302 Center Street, Beattie, KS 66406.
City of Blue Rapids | City Hall, 04 Public Square, Blue Rapids, KS 66411.
City of Frankfort | City Hall, 109 North Kansas Avenue, Frankfort, KS 66427.
City of Marysville | City Hall, 209 North 8th Street, Marysville, KS 66508.
City of Oketo | City Hall, 106 Center Street, Oketo, KS 66518.
City of Vermillion | City Hall, 102 Main Street, Vermillion, KS 66544.
City of Waterville | City Hall, 136 East Commercial Street, Waterville, KS 66548.
Unincorporated Areas of Marshall County | Marshall County Courthouse, 1201 Broadway Street, Marysville, KS 66508.
Lower Catawba Watershed
Chester County, South Carolina and Incorporated Areas
Docket No.: FEMA-B-1550
Unincorporated Areas of Chester County | Chester County Government Complex, 1476 J.A. Cochran Bypass, Suite 63, Chester, SC 29706.
Lancaster County, South Carolina and Incorporated Areas
Docket No.: FEMA-B-1550
City of Lancaster | City Hall, 216 South Catawba Street, Lancaster, SC 29720.
Unincorporated Areas of Lancaster County | Lancaster County Zoning Department, 101 North Main Street, Lancaster, SC 29720.
York County, South Carolina and Incorporated Areas
Docket No.: FEMA-B-1550
City of Rock Hill | City Hall, 155 Johnston Street, Rock Hill, SC 29730.
Town of Fort Mill | Engineering Department, 131 East Elliott Street, Fort Mill, SC 29715.
Unincorporated Areas of York County | York County Planning and Development Services Department, 1070 Heckle Boulevard, Building 107, Rock Hill, SC 29732.

II. Non-watershed-based studies:

Community | Community map repository address
Calaveras County, California and Incorporated Areas
Docket No.: FEMA-B-1553
Unincorporated Areas of Calaveras County | Calaveras County Planning Department, 891 Mountain Ranch Road, San Andreas, CA 95249.
San Luis Obispo County, California and Incorporated Areas
Docket No.: FEMA-B-1602
City of Grover Beach | City Hall, 154 South 8th Street, Grover Beach, CA 93433.
City of Morro Bay | Public Works & Community Development Department, 955 Shasta Avenue, Morro Bay, CA 93442.
City of Pismo Beach | City Hall, 760 Mattie Road, Pismo Beach, CA 93449.
Unincorporated Areas of San Luis Obispo County | San Luis Obispo County Government Center, Public Works Department, 976 Osos Street, Room 207, San Luis Obispo, CA 93408.
Cass County, Iowa and Incorporated Areas
Docket No.: FEMA-B-1602
City of Anita | City Hall, 744 Main Street, Anita, IA 50020.
City of Atlantic | City Hall, 23 East 4th Street, Atlantic, IA 50022.
City of Cumberland | City Hall, 207 Main Street, Cumberland, IA 50843.
City of Griswold | City Building, 601 2nd Street, Griswold, IA 51535.
City of Lewis | City Hall, 416 West Main Street, Lewis, IA 51544.
City of Marne | City Council Chambers, 403 Washington Street, Marne, IA 51552.
City of Massena | City Hall, 100 Main Street, Massena, IA 50853.
City of Wiota | City Hall, 311 Center Street, Wiota, IA 50274.
Unincorporated Areas of Cass County | Cass County Courthouse, Engineer's Office, 5 West 7th Street, Atlantic, IA 50022.
Pocahontas County, Iowa and Incorporated Areas
Docket No.: FEMA-B-1602
City of Fonda | City Hall, 104 West 2nd Street, Fonda, IA 50540.
City of Havelock | City Hall, 858 Wood Street, Havelock, IA 50546.
City of Laurens | City Hall, 272 North 3rd Street, Laurens, IA 50554.
City of Pocahontas | City Hall, 23 West Elm Avenue, Pocahontas, IA 50574.
City of Rolfe | City Hall, 319 Garfield Street, Rolfe, IA 50581.
Unincorporated Areas of Pocahontas County | Pocahontas County Courthouse, 99 Court Square, Pocahontas, IA 50574.

[FR Doc. 2017-05451 Filed 3-17-17; 8:45 am]

BILLING CODE 9110-12-P